DEPARTMENT OF DEFENSE

Office of the Secretary

32 CFR Part 279

[Docket ID: DOD-2009-OS-0141; RIN 0790-AI59]

Retroactive Stop Loss Special Pay Compensation; Correction

AGENCY: Office of the Under Secretary of Defense for Personnel and Readiness, DoD.

ACTION: Final rule; correction.

SUMMARY: The Office of the Secretary of Defense published a final rule on April 16, 2010 (75 FR 19878), concerning Retroactive Stop Loss Special Pay Compensation that was authorized and appropriated in the Supplemental Appropriations Act, 2009. This document corrects the words of issuance that were included in the final rule.

DATES: This rule is effective October 21, 2009, to comply with section 310 of Public Law 111-32 that calls for the Secretary of Defense to issue a rule not later than 120 days from the date of enactment of the Act. The change of eligibility for Retroactive Stop Loss Special Pay is effective on December 19, 2009, the enactment date of the 2010 Department of Defense Appropriations Act.

FOR FURTHER INFORMATION CONTACT: LTC Brigitte Williams, (703) 614-3973.

SUPPLEMENTARY INFORMATION:

Need for Correction

The words of issuance that were set out within the final rule must be corrected to allow for the proper codification of the rule's regulatory text.

Correction

In rule FR Doc. 2010-8739, published on April 16, 2010 (75 FR 19878) make the following correction. On page 19879, in the first column, in the words of issuance, correct the word “added” to read “revised”.

Dated: April 20, 2010.
Mitchell S. Bryman,
Alternate OSD Federal Register Liaison Officer, Department of Defense.

[FR Doc. 2010-9541 Filed 4-23-10; 8:45 am]

BILLING CODE 5001-06-P